COMMODITY FUTURES TRADING

Sunshine Act Meeting

TIME AND DATE: 11 a.m., Friday, February 2, 2007.

PLACE: 1155 21st St., NW., Washington, DC, 9th Floor Commission Conference Room.

STATUS: Closed.

MATTERS TO BE CONSIDERED: Surveillance Matters.

CONTACT PERSON FOR MORE INFORMATION: Eileen A. Donovan, 202-418-5100.

Eileen A. Donovan,
Acting Secretary of the Commission.

[FR Doc. 07-225 Filed 1-17-07; 11:27 am]

BILLING CODE 6351-01-M